DEPARTMENT OF LABOR

Employment and Training Administration

[TA-W-50,473]

Southern Georgia Cap Company dba Georgia Headwear and Apparel, Waycross, GA; Notice of Termination of Investigation

Pursuant to section 221 of the Trade Act of 1974, as amended, an investigation was initiated on January 6, 2003 in response to a worker petition filed by a company official on behalf of workers at Southern Georgia Cap Company, doing business as Georgia Headwear and Apparel, Waycross, Georgia.

The petitioner has requested that the petition be withdrawn. Consequently, further investigation would serve no useful purpose and the investigation has been terminated.

Signed at Washington, DC, this 14th day of February 2003.
Richard Church,
Certifying Officer, Division of Trade Adjustment Assistance.

[FR Doc. 03-5544 Filed 3-7-03; 8:45 am]

BILLING CODE 4510-30-P